DEPARTMENT OF HEALTH AND HUMAN SERVICES

Substance Abuse and Mental Health Services Administration

Center for Substance Abuse Treatment; Notice of Meetings

Pursuant to Public Law 92-463, notice is hereby given that the Substance Abuse and Mental Health Services Administration (SAMHSA) Center for Substance Abuse Treatment (CSAT) National Advisory Council will meet on August 21, 2008, from 1 p.m. to 3 p.m. and on September 9, 2008, from 1:30 p.m. to 2:30 p.m. via teleconferences.

The meetings will include discussion and evaluation of grant applications reviewed by Initial Review Groups. Therefore, the meetings will be closed to the public as determined by the Administrator, SAMHSA, in accordance with Title 5 U.S.C. 552b(c)(6) and 5 U.S.C. App. 2, Section 10(d).

Substantive program information, a summary of the meetings and a roster of Council members may be obtained as soon as possible after each meeting, either by accessing the SAMHSA Committee Web site at http://www.nac.samhsa.gov, or by contacting CSAT National Advisory Council's Designated Federal Official, Ms. Cynthia Graham (see contact information below).

Committee Name: SAMHSA Center for Substance Abuse Treatment National

Advisory Council.

Dates/Times/Types: August 21, 2008, from 1 p.m. to 3 p.m.: CLOSED. September 9, 2008, from 1:30 p.m. to 2:30 p.m.: CLOSED.

Place: SAMHSA Building, 1 Choke Cherry Road, Great Falls Room, Rockville, Maryland 20857.

Contact: Cynthia Graham, M.S., Designated Federal Official, SAMHSA CSAT National Advisory Council, 1 Choke Cherry Road, Room 5-1035, Rockville, Maryland 20857, Telephone: (240) 276-1692, Fax: (240) 276-1690, e-mail: cynthia.graham@samhsa.hhs.gov.

Toian Vaughn,
Committee Management Officer, Substance Abuse and Mental Health Services Administration.

[FR Doc. E8-18130 Filed 8-6-08; 8:45 am]

BILLING CODE 4162-20-P